NUCLEAR REGULATORY COMMISSION

[Docket Nos. 50-327 and 50-328]

Tennessee Valley Authority; Notice of Withdrawal of Application for Amendments to Facility Operating Licenses

The U.S. Nuclear Regulatory Commission (the Commission) has granted the request of Tennessee Valley Authority (TVA, the licensee) to withdraw its June 24, 1999, application for proposed amendments to Facility Operating Licenses Nos. DPR-77 and DPR-79 for the Sequoyah Nuclear Plant, Units 1 and 2, located in Hamilton County, Tennessee.

The proposed amendments would have revised the facility technical specifications (TS) pertaining to surveillance requirements for the ice weight in the ice condenser baskets.

The Commission had previously issued a Notice of Consideration of Issuance of Amendments published in the Federal Register on August 11, 1999 (64 FR 43781). The Commission subsequently sent a letter to TVA, dated December 9, 1999, noting that the staff had identified a number of deficiencies during the course of their review. Although these deficiencies did not dispute the no significant hazards consideration determination published in the Federal Register, they did fall short of the improvements to and clarifications of the present TS envisioned by the Commission staff. By letter dated June 9, 2000, TVA withdrew the proposed change on the basis that the Ice Condenser Utility Group reevaluated the original request and determined that the initial approach taken may not necessarily provide the desired improvements.

For further details with respect to this action, see the application for amendments dated June 24, 1999, the Commission's letter dated December 9, 1999, and the licensee's letter dated June 9, 2000, which withdrew the application for license amendments. The above documents are available for public inspection at the Commission's Public Document Room, the Gelman Building, 2120 L Street, NW., Washington, DC, and accessible electronically through the ADAMS Public Electronic Reading Room link at the NRC Web site (http://www.nrc.gov).

Dated at Rockville, Maryland, this 25th day of July 2000.
For the Nuclear Regulatory Commission.
Ronald W. Hernan,
Senior Project Manager, Section 2, Project Directorate II, Division of Licensing Project Management, Office of Nuclear Reactor Regulation.

[FR Doc. 00-19246 Filed 7-28-00; 8:45 am]

BILLING CODE 7590-01-P